OFFICE OF THE UNITED STATES TRADE REPRESENTATIVE

Allocation of Additional Fiscal Year (FY) 2011 In-Quota Volume for Raw Cane Sugar

AGENCY: Office of the United States Trade Representative.

ACTION: Notice.

SUMMARY: The Office of the United States Trade Representative (USTR) is providing notice of country-by-country allocations of additional fiscal year (FY) 2011 in-quota quantity of the tariff-rate quota (TRQ) for imported raw cane sugar. USTR is also reallocating a portion of the unused original FY 2011 TRQ.

DATES: Effective Date: July 18, 2011.

ADDRESSES: Inquiries may be mailed or delivered to Julie Scott, Policy Analyst, Office of Agricultural Affairs, Office of the United States Trade Representative, 600 17th Street, NW., Washington, DC 20508.

FOR FURTHER INFORMATION CONTACT: Julie Scott, Office of Agricultural Affairs, 202-395-6127.

SUPPLEMENTARY INFORMATION: Pursuant to Additional U.S. Note 5 to chapter 17 of the Harmonized Tariff Schedule of the United States (HTS), the United States maintains TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On June 21, 2011, the Secretary of Agriculture announced an additional in-quota quantity of the FY 2011 TRQ for imported raw cane sugar for the remainder of FY 2011 (ending September 30, 2011) in the amount of 108,862 metric tons * raw value (MTRV). This quantity is in addition to the minimum amount to which the United States is committed pursuant to the World Trade Organization (WTO) Uruguay Round Agreements (1,117,195 MTRV). Based on consultations with quota holders, USTR is allocating the 108,862 MTRV to the following countries in the amounts specified below:

Country | FY 2011 additional allocation
Argentina | 7,636
Australia | 14,740
Belize | 1,954
Bolivia | 1,421
Brazil | 25,750
Colombia | 4,262
Costa Rica | 2,664
Ecuador | 1,954
El Salvador | 4,617
Guatemala | 8,524
Guyana | 2,131
India | 1,421
Malawi | 1,776
Mozambique | 2,309
Nicaragua | 3,729
Panama | 5,150
Peru | 7,281
Philippines | 2,841
South Africa | 4,085
Thailand | 2,486
Zimbabwe | 2,131

Additionally, based on follow-up country consultations, the Office of the United States Trade Representative also today is reallocating 16,807 MTRV of the minimum amount of the original TRQ for raw cane sugar, to the Philippines. This results in an overall increased allocation of 19,648 MTRV for the Philippines.

These allocations are based on the countries' historical shipments to the United States. The allocations of the raw cane sugar TRQ to countries that are net importers of sugar are conditioned on receipt of the appropriate verifications of origin and certificates for quota eligibility must accompany imports from any country for which an allocation has been provided.

* Conversion factor: 1 metric ton = 1.10231125 short tons.

Ronald Kirk,
United States Trade Representative.

[FR Doc. 2011-17857 Filed 7-15-11; 8:45 am]

BILLING CODE 3190-W1-P